SOCIAL SECURITY ADMINISTRATION

[Docket No: SSA-2015-0015]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov

(SSA), Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2015-0015].

I. The information collections below are pending at SSA. SSA will submit them to OMB within 60 days from the date of this notice. To be sure we consider your comments, we must receive them no later than June 8, 2015. Individuals can obtain copies of the collection instruments by writing to the above email address.

1. Statement of Claimant or Other Person—20 CFR 404.702 & 416.570—0960-0045. SSA uses Form SSA-795 in special situations where there is no authorized form or questionnaire, yet we require a signed statement from the applicant, claimant, or other persons who have knowledge of facts, in connection with claims for Social Security benefits or Supplemental Security Income (SSI). The information we request on the SSA-795 is of sufficient importance that we need both a signed statement and a penalty clause. SSA uses this information to process, in addition to claims for benefits, issues about continuing eligibility; ongoing benefit amounts; use of funds by a representative payee; fraud investigation; and a myriad of other program-related matters. The most typical respondents are applicants for Social Security, SSI, or recipients of these programs. However, respondents also include friends and relatives of the involved parties, coworkers, neighbors, or anyone else in a position to provide information pertinent to the issue(s).

Type of Request: Revision of an OMB-approved information collection.

Modality of completion | Number of respondents | Frequency of response | Average burden per response (minutes) | Estimated total annual burden (hours)
SSA-795 | 305,500 | 1 | 15 | 76,375

2. Statement of Care and Responsibility for Beneficiary—20 CFR 404.2020, 404.2025, 408.620, 408.625, 416.620, 416.625—0960-0109. SSA uses the information from Form SSA-788 to verify payee applicants' statements of concern and to identify other potential payees. SSA is concerned with selecting the most qualified representative payee who will use Social Security benefits in the beneficiary's best interest. SSA considers factors such as the payee applicant's capacity to perform payee duties; awareness of the beneficiary's situation and needs; demonstration of past; and current concern for the beneficiary's well-being, etc. If the payee applicant does not have custody of the beneficiary, SSA will obtain information from the custodian for evaluation against information provided by the applicant. Respondents are individuals who have custody of the beneficiary in cases where someone else has filed to be the beneficiary's representative payee.

Type of Request: Revision of an OMB-approved information collection.

Modality of completion | Number of respondents | Frequency of response | Average burden per response (minutes) | Estimated total annual burden (hours)
SSA-788 | 130,000 | 1 | 10 | 21,667

3. Request for Internet Services—Authentication; Automated Telephone Speech Technology—Knowledge-Based Authentication (RISA-KBA)—20 CFR 401.45—0960-0596. The Request for Internet Services and 800# Automated Telephone Services Knowledge-Based Authentication is one of the authentication methods SSA uses to allow individuals access to their personal information through our Internet and Automated Telephone Services. SSA asks individuals and third parties who seek personal information from SSA records, or who register to participate in SSA's online business services, to provide certain identifying information. As an extra measure of protection, SSA asks requestors who use the Internet and telephone services to provide additional identifying information unique to those services so SSA can authenticate their identities before releasing personal information. The respondents are current beneficiaries who are requesting personal information from SSA, as well as individuals and third parties who register for SSA's online business services.

Type of Request: Revision of an OMB-approved information collection.

Modality of completion | Number of respondents | Frequency of response | Average burden per response (minutes) | Estimated total annual burden (hours)
Internet Requestors | 10,373,917 | 1 | 3 | 518,695
Telephone Requestors | 1,703,367 | 1 | 4 | 113,558
*Change of Address (on hold) | 1 |  |  | 1
*Screen Splash (on hold) | 1 |  |  | 1
Totals: | 12,077,286 |  |  | 632,255
* Reducing the burden to a one-hour placeholder burden; Screen Splash and Change of Address applications are on hold.

4. Social Security Number Verification Services—20 CFR 401.45—0960-0660. Internal Revenue Service regulations require employers to provide wage and tax data to SSA using Form W-2 or its electronic equivalent. As part of this process, the employer must furnish the employee's name and Social Security number (SSN). In addition, the employee's name and SSN must match SSA's records for SSA to post earnings to the employee's earnings record. SSA offers the Social Security Number Verification Service (SSNVS), which allows employers to verify the reported names and SSNs of their employees match those in SSA's records. SSNVS is a cost-free method for employers to verify employee information either through the Internet or via telephone. The respondents are employers who need to verify SSN data using SSA's records.

Type of Request: Revision of an OMB-approved information collection.

Modality of completion | Number of respondents | Frequency of response | Average burden per response (minutes) | Total annual burden (hours)
SSNVS | 44,975 | 60 | 5 | 224,875
SSNVS Telephone | 1,750 | 2 | 10 | 583
Totals | 46,725 |  |  | 225,458

II. SSA submitted the information collection below to OMB for clearance. Your comments regarding the information collection would be most useful if OMB and SSA receive them 30 days from the date of this publication. To be sure we consider your comments, we must receive them no later than May 7, 2015. Individuals can obtain copies of the OMB clearance package by writing to OR.Reports.Clearance@ssa.gov.

Promoting Readiness of Minors in SSI (PROMISE) Evaluation—0960-0799. Background

The Promoting Readiness of Minors in SSI (PROMISE) demonstration pursues positive outcomes for children with disabilities who receive SSI and their families by reducing dependency on SSI. The Department of Education (ED) awarded six cooperative agreements to states to improve the provision and coordination of services and support for children with disabilities who receive SSI and their families to achieve improved education and employment outcomes. ED awarded PROMISE funds to five single-state projects, and to one six-state consortium.¹ With support from ED, the Department of Labor (DOL), and the Department of Health and Human Services (HHS), SSA is evaluating the six PROMISE projects. SSA contracted with Mathematica Policy Research to conduct the evaluation.

¹ The six-state consortium project goes by the name Achieving Success by Promoting Readiness for Education and Employment (ASPIRE) rather than by PROMISE.

Under PROMISE, targeted outcomes for youth include an enhanced sense of self-determination; achievement of secondary and post-secondary educational credentials; an attainment of early work experiences culminating with competitive employment in an integrated setting; and long-term reduction in reliance on SSI. Outcomes of interest for families include heightened expectations for and support of the long-term self-sufficiency of their youth; parent or guardian attainment of education and training credentials; and increases in earnings and total income. To achieve these outcomes, we expect the PROMISE projects to make better use of existing resources by improving service coordination among multiple state and local agencies and programs.

ED, SSA, DOL, and HHS intend the PROMISE projects to address key limitations in the existing service system for youth with disabilities. By intervening early in the lives of these young people, at ages 14-16, the projects engage the youth and their families well before critical decisions regarding the age 18 redetermination are upon them. We expect the required partnerships among the various state and Federal agencies that serve youth with disabilities to result in improved integration of services and fewer dropped handoffs as youth move from one agency to another. By requiring the programs to engage and serve families and provide youth with paid work experiences, the initiative is mandating the adoption of critical best practices in promoting the independence of youth with disabilities.

Project Description

SSA is requesting clearance for the collection of data needed to implement and evaluate PROMISE. The evaluation provides empirical evidence on the impact of the intervention for youth and their families in several critical areas, including: (1) Improved educational attainment; (2) increased employment skills, experience, and earnings; and (3) long-term reduction in use of public benefits. We base the PROMISE evaluation on a rigorous design that entails the random assignment of approximately 2,000 youth in each of the six projects to treatment or control groups (12,000 total). The PROMISE projects provide enhanced services for youth in the treatment groups; whereas youth in the control groups are eligible only for those services already available in their communities independent of the interventions.

The evaluation assesses the effect of PROMISE services on educational attainment, employment, earnings, and reduced receipt of disability payments. The three components of this evaluation include:

• The process analysis, which documents program models, assesses the relationships among the partner organizations, documents whether the grantees implemented the programs as planned, identifies features of the programs that may account for their impacts on youth and families, and identifies lessons for future programs with similar objectives.

• The impact analysis, which determines whether youth and families in the treatment groups receive more services than their counterparts in the control groups. It also determines whether treatment group members have better results than control group members with respect to the targeted outcomes noted above.

• The cost-benefit analysis, which assesses whether the benefits of PROMISE, including increases in employment and reductions in benefit receipt, are large enough to justify its costs. We conduct this assessment from a range of perspectives, including those of the participants, state and Federal governments, SSA, and society as a whole.

SSA planned several data collection efforts for the evaluation. These include: (1) Follow-up interviews with youth and their parent or guardian 18 months and 5 years after enrollment; (2) phone and in-person interviews with local program administrators, program supervisors, and service delivery staff at two points in time over the course of the demonstration; (3) two rounds of focus groups with participating youth in the treatment group; (4) two rounds of focus groups with parents or guardians of participating youth; and (5) collection of administrative data. At this time, SSA requests clearance for the 18-month survey interviews. SSA will request clearance for the 5-year survey interviews in a future submission. The respondents are the youth participants in the PROMISE program, and the parents or guardians of the youth participants.

Type of Request: Revision to an OMB-approved information collection.

Note: This is a correction notice. SSA inadvertently published the incorrect burden information for this collection at 80 FR 3713, on 1/23/15. We are correcting this error here.

Time Burden on Respondents

Modality of completion | Number of responses | Frequency of response | Average burden per response (minutes) | Estimated total annual burden (hours)
2014: Interviews and Focus Group Discussions
Staff Interviews with Administrators or Directors | 24 | 1 | 66 | 26
Staff Interviews with PROMISE Project Staff | 48 | 1 | 66 | 53
Youth Focus Groups—Non-participants | 100 | 1 | 5 | 8
Youth Focus Groups—Participants | 20 | 1 | 100 | 33
Parents or Guardian Focus Groups—Non-participants | 100 | 1 | 5 | 8
Parents or Guardian Focus Groups—Participants | 20 | 1 | 100 | 33
Totals | 312 |  |  | 161
2015: Interviews and Focus Group Discussions, and 18-Month Survey Interviews
Staff Interviews with Administrators or Directors | 51 | 1 | 66 | 56
Staff Interviews with PROMISE Project Staff | 97 | 1 | 66 | 107
Youth Focus Groups—Non-participants | 220 | 1 | 5 | 18
Youth Focus Groups—Participants | 60 | 1 | 100 | 100
Parents or Guardian Focus Groups—Non-participants | 220 | 1 | 5 | 18
Parents or Guardian Focus Groups—Participants | 60 | 1 | 100 | 100
18 Month Survey Interviews—Parent | 850 | 1 | 41 | 595
18 Month Survey Interviews—Youth | 850 | 1 | 30 | 425
Totals | 2,408 |  |  | 1,405
2016: Interviews and Focus Group Discussions and 18 Month Survey Interviews
Staff Interviews with Administrators or Directors | 75 | 1 | 66 | 83
Staff Interviews with PROMISE Project Staff | 145 | 1 | 66 | 160
Youth Focus Groups—Non-participants | 320 | 1 | 5 | 27
Youth Focus Groups—Participants | 80 | 1 | 100 | 133
Parents or Guardian Focus Groups—Non-participants | 320 | 1 | 5 | 27
Parents or Guardian Focus Groups—Participants | 80 | 1 | 100 | 133
18 Month Survey Interviews—Parent | 5,100 | 1 | 41 | 3,485
18 Month Survey Interviews—Youth | 5,100 | 1 | 30 | 2,550
Totals | 11,220 |  |  | 6,598
2017: 18 Month Survey Interviews
18 Month Survey Interviews—Parent | 4,250 | 1 | 41 | 2,904
18 Month Survey Interviews—Youth | 4,250 | 1 | 30 | 2,125
Totals | 8,500 |  |  | 5,029
Grand Total | 22,440 |  |  | 13,193

Cost Burden for Respondents

Respondent type | Number of respondents | Frequency of response | Average burden per response (minutes) | Median hourly wage rate (dollars) | Total respondent cost (dollars)
2014: Annual Cost to Respondents:
Parent or Guardian Focus Group—Non-Participants | 100 | 1 | 5 | $7.38 | $61.00
Parent or Guardian Focus Group—Participants | 20 | 1 | 100 | 7.38 | 246.00
Total | 120 |  |  |  | 307.00
2015: Annual Cost to Respondents:
Parent or Guardian Focus Group—Non-Participants | 220 | 1 | 5 | 7.38 | 135.00
Parent or Guardian Focus Group—Participants | 60 | 1 | 100 | 7.38 | 738.00
Total | 280 |  |  |  | 873.00
2016: Annual Cost to Respondents:
Parent or Guardian Focus Group—Non-Participants | 320 | 1 | 5 | 7.38 | 196.00
Parent or Guardian Focus Group—Participants | 80 | 1 | 100 | 7.38 | 984.00
Total | 400 |  |  |  | 1,180.00
Grand Total: | 800 |  |  |  | 2,360.00

Date: April 2, 2015.
Faye I. Lipsky,
Reports Clearance Officer, Social Security Administration.

[FR Doc. 2015-07881 Filed 4-6-15; 8:45 am]

BILLING CODE CODE 4191-02-P